DEPARTMENT OF JUSTICE

[OMB Number 1121-0269]

Agency Information Collection Activities; Proposed eCollection eComments Requested; Reinstatement, With Change, of a Previously Approved Collection for Which Approval Has Expired: Census of Publicly Funded Forensic Crime Laboratories (CPFFCL)

AGENCY: Bureau of Justice Statistics, Department of Justice

ACTION: 60-Day notice.

SUMMARY: The Bureau of Justice Statistics, Department of Justice (DOJ) will be submitting the following information collection request to the Office of Management and Budget (OMB) for review and approval in accordance with the Paperwork Reduction Act of 1995.

DATES: Comments are encouraged and will be accepted for 60 days until January 27, 2025.

FOR FURTHER INFORMATION CONTACT: If you have comments especially on the estimated public burden or associated response time, suggestions, or need a copy of the proposed information collection instrument with instructions or additional information, please contact Matt Durose, Bureau of Justice Statistics, 999 North Capital Street NE, Washington, DC 20531 (email: Matt.Durose@usdoj.gov; telephone: 202-598-0295).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including using appropriate automated, electronic, mechanical, or other technological collection techniques or other forms of information technology, e.g., permitting electronic submission of responses.

Abstract: Since 2002, the Bureau of Justice Statistics (BJS) has periodically conducted the Census of Publicly Funded Forensic Crime Laboratories (CPFFCL) through a survey that collects data on the staffing, budgets, workloads, resources, policies, and procedures among federal, state, and local crime labs. The 2024 CPFFCL will be the sixth administration. It will provide insight on emerging issues and challenges facing crime labs since the CPFFCL was last conducted in 2020. BJS uses the information gathered in CPFFCL in published reports and statistics. The reports will be made available to the U.S. Congress, Executive Office of the President, practitioners, researchers, students, the media, others interested in criminal justice statistics, and the general public via the BJS website.

Overview of This Information Collection

1. Type of Information Collection: Reinstatement, with changes, of a previously approved collection for which approval has expired.

2. Title of the Form/Collection: 2024 Census of Publicly Funded Forensic Crime Laboratories (CPFFCL).

3. Agency form number, if any, and the applicable component of the Department of Justice sponsoring the collection: The form number is CPFFCL-24. The applicable component within the Department of Justice is the Bureau of Justice Statistics (BJS), in the Office of Justice Programs.

4. Affected public who will be asked or required to respond, as well as the obligation to respond: Affected public are federal, state, and local government agencies. The 2024 CPFFCL is revised from the 2020 CPFFCL. BJS plans to field the 2024 CPFFCL from February through August 2025. Respondents will be the staff at the publicly funded forensic crime labs. The obligation to respond is voluntary.

5. An estimate of the total number of respondents and the amount of time estimated for an average respondent to respond: A projected 350 respondents from individual labs and multi-lab systems will take an average of 90 minutes (1.5 hours) each to complete form CPFFCL-24, including time to research or find information not readily available. In addition, an estimated 225 respondents will be contacted for data quality follow-up at 15 minutes (.25 hours) per respondent.

6. An estimate of the total public burden (in hours) associated with the collection: The total burden hours for this collection is 581 hours.

7. An estimate of the total annual cost burden associated with the collection, if applicable: $907,183.

Total Burden Hours
Activity | Number of respondents | Frequency | Total annual responses | Time per response | Total annual burden (hours)
Survey | 350 | 1 | 350 | 90 min (1.5 hrs.) | 525
Data Quality Follow-Up | 225 | 1 | 225 | 15 min (.25 hrs.) | 56
Unduplicated Totals | 350 |  | 300 |  | 581

If additional information is required, contact: Darwin Arceo, Department Clearance Officer, United States Department of Justice, Justice Management Division, Policy and Planning Staff, Two Constitution Square, 145 N Street NE, 4W-218, Washington, DC.

Dated: November 22, 2024.
Darwin Arceo,
Department Clearance Officer for PRA, U.S. Department of Justice.

[FR Doc. 2024-27802 Filed 11-26-24; 8:45 am]

BILLING CODE 4410-18-P